DEPARTMENT OF THE INTERIOR

National Park Service

[NPS-WASO-NAGPRA-NPS0040167; PPWOCRADN0-PCU00RP14.R50000]

Notice of Inventory Completion: Tennessee Department of Environment and Conservation Division of Archaeology, Nashville, TN

AGENCY: National Park Service, Interior.

ACTION: Notice.

SUMMARY: In accordance with the Native American Graves Protection and Repatriation Act (NAGPRA), the Tennessee Department of Conservation and Environment, Division of Archaeology (TDEC-DOA) has completed an inventory of human remains and associated funerary objects from Carroll and Henry Counties, TN and has determined that there is a cultural affiliation between the human remains and associated funerary objects and Indian Tribes or Native Hawaiian organizations in this notice.

DATES: Repatriation of the human remains and associated funerary objects in this notice may occur on or after July 3, 2025.

ADDRESSES: Phillip R. Hodge, Tennessee Department of Environment and Conservation, Division of Archaeology (TDEC-DOA), 1216 Foster Avenue, Cole Building #3, Nashville, TN 37243, telephone (615) 626-2025, email phil.hodge@tn.gov.

SUPPLEMENTARY INFORMATION: This notice is published as part of the National Park Service's administrative responsibilities under NAGPRA. The determinations in this notice are the sole responsibility of the TDEC-DOA, and additional information on the determinations in this notice, including the results of consultation, can be found in its inventory or related records. The National Park Service is not responsible for the determinations in this notice.

Abstract of Information Available

Human remains representing, at least, five individuals have been identified. The 15 associated funerary objects are seven bone artifacts and eight lithic artifacts. Lotted associated funerary objects are three lots sorted faunal, lithics, and ceramic artifacts.

Davis Cavern, Carrol County, TN

Commingled human remains representing, at least, three individuals and associated funerary objects consisting of seven bone and eight lithic artifacts were excavated in 1926 from Davis Cavern, an unrecorded site in Carroll County, Tennessee, and curated with the Tennessee State Museum. These remains were transferred to the Division of Archaeology in 1995 and 2017 for repatriation. No information is available on the original archaeological context of these materials. There is no known exposure to hazardous substances or treatments.

Site 40HY13, Henry County, TN

Human remains representing, at least, one individual. The associated funerary objects are three lots of pre-Contact artifacts respectively consisting of faunal, lithics, and ceramics. These remains were identified within in an artifact collection donated to TDEC-TDOA by a private individual. Rat poison pellets observed inside of the box. Ancestral remains have been placed in a muslin bag with flagging tape to identify the exposure to hazardous treatments or substances.

Unknown Site Locations, Henry County, TN

Human remains representing, at least, one individual. The human remains were donated to the Tennessee State Museum by a private individual and transferred to TDEC-DOA for repatriation. No information exists as to the circumstances of original collection. There is no known exposure to hazardous substances or treatments.

Cultural Affiliation

Based on the information available and the results of consultation, cultural affiliation is reasonably identified by the geographical location or acquisition history of the human remains and associated funerary objects described in this notice.

Determinations

The TDEC-DOA has determined that:

• The human remains described in this notice represent the physical remains of at least, five individuals of Native American ancestry.

• The 15 objects and three lots of pre-contact artifacts described in this notice are reasonably believed to have been placed intentionally with or near individual human remains at the time of death or later as part of the death rite or ceremony.

• There is a connection between the human remains and associated funerary objects described in this notice and The Chickasaw Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after July 3, 2025. If competing requests for repatriation are received, the TDEC-DOA must determine the most appropriate requestor prior to repatriation. Requests for joint repatriation of the human remains and associated funerary objects are considered a single request and not competing requests. The TDEC-DOA is responsible for sending a copy of this notice to the Indian Tribes and Native Hawaiian organizations identified in this notice.

Authority: Native American Graves Protection and Repatriation Act, 25 U.S.C. 3003, and the implementing regulations, 43 CFR 10.10.

Dated: May 13, 2025.
Melanie O'Brien,
Manager, National NAGPRA Program.

[FR Doc. 2025-10025 Filed 6-2-25; 8:45 am]

BILLING CODE 4312-52-P